DEPARTMENT OF JUSTICE

Drug Enforcement Administration

[Docket No. DEA-768]

Bulk Manufacturer of Controlled Substances Application: Siemens Healthcare Diagnostics Inc.

AGENCY: Drug Enforcement Administration, Justice.

ACTION: Notice of application.

SUMMARY: Siemens Healthcare Diagnostics Inc. has applied to be registered as a bulk manufacturer of basic class(es) of controlled substance(s). Refer to Supplemental Information listed below for further drug information.

DATES: Registered bulk manufacturers of the affected basic class(es), and applicants therefore, may file written comments on or objections to the issuance of the proposed registration on or before March 15, 2021. Such persons may also file a written request for a hearing on the application on or before March 15, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 11, 2020, Siemens Healthcare Diagnostics Inc., 100 GBC Drive, Mailstop 514, Newark, Delaware 19702-2461, applied to be registered as a bulk manufacturer of the following basic class of controlled substance:

Controlled substance | Drug code | Schedule
Ecgonine | 9180 | II

The company plans to produce the listed controlled substance in bulk to be used in the manufacture of DEA exempt products. No other activities for these drug codes are authorized for this registration.

William T. McDermott,
Assistant Administrator.

[FR Doc. 2021-00648 Filed 1-13-21; 8:45 am]

BILLING CODE P